DEPARTMENT OF HOMELAND SECURITY

Federal Emergency Management Agency

[Docket ID FEMA-2020-0002; Internal Agency Docket No. FEMA-B-2070]

Proposed Flood Hazard Determinations; Correction

AGENCY: Federal Emergency Management Agency; DHS.

ACTION: Notice; correction.

SUMMARY: FEMA published a document in the Federal Register of October 6, 2020, concerning a proposed flood hazard determination. The document contained an erroneous table.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION:

Correction

In the Federal Register of October 6, 2020, in FR Doc 2020-22084, on page 63132, correct the table containing data for Louisa County, Iowa and Incorporated Areas to read:

Community | Community map repository address
Louisa County, Iowa and Incorporated Areas
Project: 15-07-0720S Preliminary Date: January 31, 2020
City of Columbus Junction | City Hall, 232 2nd Street, Columbus Junction, IA 52738.
City of Fredonia | Louisa County Courthouse, 117 South Main Street, Wapello, IA 52653.
City of Letts | City Hall, 125 East Iowa Street, Letts, IA 52754.
City of Morning Sun | City Hall, 11 East Division Street, Morning Sun, IA 52640.
City of Oakville | City Hall, 601 2nd Street, Oakville, IA 52646.
City of Wapello | City Hall, 335 North Main Street, Wapello, IA 52653.
Unincorporated Areas of Louisa County | Louisa County Courthouse, 117 South Main Street, Wapello, IA 52653.

Michael M. Grimm,
Assistant Administrator for Risk Management, Department of Homeland Security, Federal Emergency Management Agency.

[FR Doc. 2020-26486 Filed 11-30-20; 8:45 am]

BILLING CODE 9110-12-P